DEPARTMENT OF THE TREASURY

Office of Foreign Assets Control

31 CFR Part 548

Publication of Belarus Sanctions Regulations Web General License 1 and Subsequent Iterations

AGENCY: Office of Foreign Assets Control, Treasury.

ACTION: Publication of web general licenses.

SUMMARY: The Department of the Treasury's Office of Foreign Assets Control (OFAC) is publishing five general licenses (GLs) issued pursuant to the Belarus Sanctions Regulations: GLs 1, 1-A, 1-B, 1-C, and 1-D, each of which was previously made available on OFAC's website.

DATES: GL 1 was issued on September 4, 2008. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On September 4, 2008, OFAC issued GL 1 to authorize certain transactions otherwise prohibited by Executive Order 13405 of June 16, 2006, “Blocking Property of Certain Persons Undermining Democratic Processes or Institutions in Belarus” (71 FR 35485, June 20, 2006). Subsequently, OFAC issued four further iterations of GL 1: on February 19, 2009, OFAC issued GL 1-A, which superseded GL 1; on May 21, 2009, OFAC issued GL 1-B, which superseded GL 1-A; on November 13, 2009, OFAC issued GL 1-C, which superseded GL 1-B; and on May 17, 2010, OFAC issued GL 1-D, which superseded GL 1-C. Each GL was made available on OFAC's website (www.treas.gov/ofac) when it was issued. The text of these GLs is provided below.

OFFICE OF FOREIGN ASSETS CONTROL

Belarus Sanctions

GENERAL LICENSE NO. 1

Transactions With Certain Blocked Persons in Belarus Authorized

(a) Effective September 4, 2008, all transactions between U.S. persons and Lakokraska OAO and/or Polotsk Steklovolokno OAO, two entities that were designated on May 15, 2008, pursuant to Executive Order 13405 of June 16, 2006 (71 FR 35485, June 20, 2006) (“E.O. 13405”), are authorized for a period of 180 days [until March 2, 2009].

(b) Unless otherwise authorized by the Office of Foreign Assets Control, all property and interests in property of Lakokraska OAO or Polotsk Steklovolokno OAO that were previously blocked pursuant to E.O. 13405 remain blocked. A U.S. person may not procure goods, services, or technology from, or engage in transactions with, any other blocked person directly or indirectly through Lakokraska OAO or Polotsk Steklovolokno OAO.

Barbara C. Hammerle,

Acting Director, Office of Foreign Assets Control.

Date: September 4, 2008.

OFFICE OF FOREIGN ASSETS CONTROL

Belarus Sanctions

GENERAL LICENSE NO. 1-A

Transactions With Certain Blocked Persons in Belarus Authorized

(a) Effective September 4, 2008, all transactions between U.S. persons and Lakokraska OAO and/or Polotsk Steklovolokno OAO, two entities that were designated on May 15, 2008, pursuant to Executive Order 13405 of June 16, 2006 (71 FR 35485, June 20, 2006) (“E.O. 13405”), are authorized for a period of 270 days [until June 1, 2009].

(b) Unless otherwise authorized by the Office of Foreign Assets Control, all property and interests in property of Lakokraska OAO or Polotsk Steklovolokno OAO that were previously blocked pursuant to E.O. 13405 remain blocked. A U.S. person may not procure goods, services, or technology from, or engage in transactions with, any other blocked person directly or indirectly through Lakokraska OAO or Polotsk Steklovolokno OAO.

Adam J. Szubin,

Director, Office of Foreign Assets Control.

Date: February 19, 2009.

OFFICE OF FOREIGN ASSETS CONTROL

Belarus Sanctions

GENERAL LICENSE NO. 1-B

Transactions With Certain Blocked Persons in Belarus Authorized

(a) Effective September 4, 2008, all transactions between U.S. persons and Lakokraska OAO and/or Polotsk Steklovolokno OAO, two entities that were designated on May 15, 2008, pursuant to Executive Order 13405 of June 16, 2006 (71 FR 35485, June 20, 2006) (“E.O. 13405”), are authorized. This authorization extends until November 30, 2009.

(b) Unless otherwise authorized by the Office of Foreign Assets Control, all property and interests in property of Lakokraska OAO or Polotsk Steklovolokno OAO that were previously blocked pursuant to E.O. 13405 remain blocked. A U.S. person may not procure goods, services, or technology from, or engage in transactions with, any other blocked person directly or indirectly through Lakokraska OAO or Polotsk Steklovolokno OAO.

Barbara C. Hammerle,

Acting Director, Office of Foreign Assets Control.

Date: May 21, 2009.

OFFICE OF FOREIGN ASSETS CONTROL

Belarus Sanctions

GENERAL LICENSE NO. 1-C

Transactions With Certain Blocked Persons in Belarus Authorized

(a) Effective September 4, 2008, all transactions between U.S. persons and Lakokraska OAO and/or Polotsk Steklovolokno OAO, two entities that were designated on May 15, 2008, pursuant to Executive Order 13405 of June 16, 2006 (71 FR 35485, June 20, 2006) (“E.O. 13405”), are authorized. This authorization extends until May 31, 2010.

(b) Unless otherwise authorized by the Office of Foreign Assets Control, all property and interests in property of Lakokraska OAO or Polotsk Steklovolokno OAO that were previously blocked pursuant to E.O. 13405 remain blocked. A U.S. person may not procure goods, services, or technology from, or engage in transactions with, any other blocked person directly or indirectly through Lakokraska OAO or Polotsk Steklovolokno OAO.

Adam J. Szubin,

Director, Office of Foreign Assets Control.

Date: November 13, 2009.

OFFICE OF FOREIGN ASSETS CONTROL

Belarus Sanctions

GENERAL LICENSE NO. 1-D

Transactions With Certain Blocked Persons in Belarus Authorized

(a) Effective September 4, 2008, all transactions between U.S. persons and Lakokraska OAO and/or Polotsk Steklovolokno OAO, two entities that were designated on May 15, 2008, pursuant to Executive Order 13405 of June 16, 2006 (71 FR 35485, June 20, 2006) (“E.O. 13405”), are authorized. This authorization extends until November 30, 2010.

(b) Unless otherwise authorized by the Office of Foreign Assets Control, all property and interests in property of Lakokraska OAO or Polotsk Steklovolokno OAO that were previously blocked pursuant to E.O. 13405 remain blocked. A U.S. person may not procure goods, services, or technology from, or engage in transactions with, any other blocked person directly or indirectly through Lakokraska OAO or Polotsk Steklovolokno OAO.

Adam J. Szubin,

Director, Office of Foreign Assets Control.

Date: May 17, 2010.

Andrea M. Gacki,
Director, Office of Foreign Assets Control.

[FR Doc. 2023-11867 Filed 6-5-23; 8:45 am]

BILLING CODE 4810-AL-P